DEPARTMENT OF TRANSPORTATION

Federal Aviation Administration

Notice of Intent To Release Airport Property for Non-Aeronautical Use; Hyannis, Massachusetts

AGENCY: Federal Aviation Administration, DOT.

ACTION: Request for comments on proposal to use airport land for non-aeronautical use.

SUMMARY: The Federal Aviation Administration (FAA) is considering a proposal to change 53.55 acres of airport land from aeronautical use to non-aeronautical use and to authorize the lease of the land for non-aeronautical purposes at the Barnstable Municipal Airport-Boardman/Polando Field, Hyannis, Massachusetts. The land would be leased to the Cape and Vineyard Electrical Company (CVEC), Massachusetts, to permit installation of solar photovoltaic (PV) arrays for the collection of energy. The lease will generate additional airport revenue. In accordance with section 47107(h) of Title 49, United States Code the FAA invites public comment on this notice.

DATES: Comments must be received on or before February 20, 2014.

ADDRESSES: You may send comments using any of the following methods:

• Federal eRulemaking Portal: Go to http://www.regulations.gov, and follow the instructions on providing comments.

• Fax: 202-493-2251

• Mail: U.S. Department of Transportation, Docket Operations, M-30, West Building Ground Floor, Room W 12-140, 1200 New Jersey Avenue SE., Washington, DC 20590.

• Hand Delivery: Deliver to Mail address above between 9 a.m. and 5 p.m., Monday through Friday, except Federal holidays.

FOR FURTHER INFORMATION CONTACT: Lisa J. Lesperance, Community Planner, 12 New England Executive Park, Burlington, Massachusetts 01803. Telephone: (781) 238-7616; Fax (781) 238-7608.

SUPPLEMENTARY INFORMATION: In accordance with the Wendell H. Ford Aviation Investment and Reform Act for the 21st Century (AIR 21), Public Law 106-181 (Apr. 5, 2000; 114 Stat. 61), this notice must be published in the Federal Register not less than 30 days before the Secretary may waive any condition imposed on a federally obligated airport by grant agreements. The FAA invites public comment on the proposal to release property at the Barnstable Municipal/Polando Field Airport under the provisions of AIR 21.

The airport operator has proposed to change 53.55 acres of airport land from aeronautical use to non-aeronautical use. The airport proposes to then lease the property to Cape and Vineyard Electrical Company (CVEC), Massachusetts, to permit the installation of solar photovoltaic (PV) arrays for the collection of energy. The lease will generate additional airport revenue. On September 4, 2013, (Site A) and December 20, 2013 (Site B), the FAA determined that the request to lease airport property for non-aeronautical purpose at the Barnstable Municipal Airport-Boardman/Polando Field Airport (HYA), Massachusetts, submitted by the Barnstable Municipal Airport met all procedural requirements.

This parcel of land was acquired with Federal participation. It is undeveloped property located on the airfield north of Runway 15-33 (Site A, approximately 17.6 acres), on the perimeter of the airport land and abutting conservation land, as well as, property location north of Runway 6-24 (Site B, approximately 35.95 acres). These parcels are accessible only by driveways on airport property and not from public or private ways outside of the airport. The proposed lease to CVEC will permit CVEC to install solar photovoltaic (PV) arrays. The lease of the property will be at fair market value for non-aeronautical uses in accordance with the FAA's Policy and Procedures Concerning the Use of Airport Revenue (64 FR 7696). All proceeds from the lease are considered airport revenue and subject to the conditions and requirement set forth in 49 U.S.C. Section 47107(b).

While the parcel was originally purchased using Federal grant money, the airport operator does not have current plans to use the land for airport development. This proposed use will still serve an aeronautical benefit by preventing further development that could interfere with normal airport operations. The proposed solar PV array was analyzed by the FAA under its Part 77 Airspace Review process (14 CFR Part 77), and the FAA concluded that the proposed array will not interfere with normal airport operations. In addition to the revenue generation for the airport, the airport sponsor will also receive state environmental credits with the installation of the solar PV arrays.

Interested persons may inspect the request and supporting documents by contacting the FAA at the address listed under FOR FURTHER INFORMATION CONTACT. All comments will be considered by the FAA to the extent practicable.

Authority: 49 U.S.C. 47107(h).

Issued in Burlington, Massachusetts, January 10, 2014.
Bryon H. Rakoff,
Acting Manager, New England Region Airports Division.

[FR Doc. 2014-00948 Filed 1-17-14; 8:45 am]

BILLING CODE 4910-13-P